DEPARTMENT OF THE INTERIOR

National Park Service

National Preservation Technology and Training Board: Meeting

AGENCY: National Park Service, Interior.

ACTION: Notice.

Notice is hereby given in accordance with the Federal Advisory Committee Act, 5 U.S.C. Appendix (1988), that the National Preservation Technology and Training Board will meet on November 6, 2001, in Natchitoches, Louisiana.

The Board was established by Congress to provide leadership, policy advice, and professional oversight to the National Center for Preservation Technology and Training, as required under the National Historic Preservation Act of 1966, as amended (16 U.S.C. 470).

The Board will meet in the Natchitosh Room in Russell Hall on the NSU campus, Tuesday, November 6, 2001. The meeting will start at 8:30 a.m. and end at about 4:30 p.m. Matters to be discussed will include officer, committee, university, National Park Service, and Center reports including the status of the grants program, a review of past accomplishments of the Center and a look toward the future of the Center and its partners in the preservation community with a report on a university consortium. The meeting will be open to the public. However, facilities and space for accommodating members of the public are limited and persons will be accommodated on a first-come, first-served basis.

Any member of the public may file a written statement concerning the matters to be discussed with Dr. Neville Agnew, Chair, National Preservation Technology and Training Board, Group Director, Information and Communication, The Getty Conservation Institute, 1200 Getty Center Drive, Suite 700, Los Angeles, CA 90049-1684.

Persons wishing more information concerning this meeting, or who wish to submit written statements, may do so by contacting Mr. E. Blaine Cliver, Chief, HABS/HAER, National Park Service, 1849 C Street NW, Washington, DC 20240, telephone (202) 343-9606. Draft summary minutes of the meeting will be available for public inspection approximately eight weeks after the meeting at the office of the Manager, National Center for Cultural Resources, Suite 350, 800 North Capitol Street NW, Washington, DC 20002.

Dated: October 1, 2001.
E. Blaine Cliver,
Chief, HABS/HAER,Designated Federal Official, National Park Service.

[FR Doc. 01-27699 Filed 11-2-01; 8:45 am]

BILLING CODE 4310-70-S